DEPARTMENT OF JUSTICE

Notice of Lodging of Consent Decrees Under the Lead-Based Paint Hazard Act

Notice is hereby given that on October 9, 2001, a proposed consent decree in United States, et al., v. East Lake Management and Development Corp., Civil Action No. 01 C 7581, and on October 11, 2001, a proposed consent decree in United States, et al., v. Wolin-Levin, Inc., Civil Action No. 01 C 7580, were lodged with the United States District Court for the Northern District of Illinois.

The consent decrees settles claims against management agents of several residential apartment buildings in Chicago, Illinois, which were brought on behalf of the Department of Housing and Urban Development and the Environmental Protection Agency under the Residential Lead-Based Paint Hazard Reduction Act 42 U.S.C. 4851 et seq. (“Lead Hazard Reduction Act”). The United States alleged in each of its complaints that the defendants failed to provide information to tenants concerning lead-based paint hazards, and failed to disclose to tenants the presence of any known lead-based paint or any known lead-based paint hazards.

Under both consent decrees, defendants have agreed to provide the required notice and disclosures, to perform inspections at the buildings for the presence of lead-based paint, and to perform lead-based paint abatement. In addition, under each decree, each defendant will pay a penalty of $25,000 to be divided among the United States, the State of Illinois, Cook County, and the City of Chicago. Lastly, each of the consent decrees calls for the performance of Child Health Improvement Projects (“CHIPs”), which are projects proposed by HUD to address issues of childhood lead poisoning in Chicago. Wolin-Levin, Inc., will contribute $100,000 as a CHIP to the City of Chicago to be used for additional lead-based paint abatement activities in Chicago, primarily replacement of windows. East Lake Management and Development Corp. will contribute $77,000 as a CHIP to community-based health centers to perform blood lead level screening of children and create educational programs in low income areas in South Chicago and Cook County. The defendants manage over 225 buildings with over 10,000 residential units.

The Department of Justice will receive for a period of thirty (30) days from the date of this publication comments relating to the consent decrees. Comments should be addressed to the Assistant Attorney General of the Environment and Natural Resources Division, Department of Justice, Washington, DC 20530, and should refer to United States, et al., v. Wolin-Levin, Inc., D.J. #90-11-2-06829/1, and United States, et al., v. East Lake Management and Development Corp., D.J. #90-5-2-1-07120.

The proposed consent decree may be examined at the Department of Housing and Urban Development, Office of Lead Hazard Control, attention: Matthew E. Ammon, 490 L'Enfant Plaza SW, Room 3206, Washington, DC 20410, (202) 755-1785; at the office of the United States Attorney for the Northern District of Illinois, 219 S. Dearborn Street, 5th Floor, Chicago, Illinois 60604, and at U.S. EPA Region 5, 77 West Jackson Boulevard, Chicago, IL 60604. A copy of the proposed consent decree may also be obtained by mail from the Department of Justice Consent Decree Library, PO Box 7611, Washington, DC 20044. In requesting a copy please refer to the reference case and enclose a check in the amount of $12.25 (25 cents per page reproduction costs), payable to the Consent Decree Library, for the consent decree in United States, et al., v. Wolin-Levin, Inc., D.J. #90-11-2-06829/1, and $14.00 (25 cents per page reproduction costs), payable to the Consent Decree Library, for the consent decree in United States, et al., v. East Lake Management and Development Corp., D.J. #90-5-2-1-07120.

William D. Brighton,
Assistant Chief, Environmental Enforcement Section, Environment and Natural Resources Division.

[FR Doc. 01-28567 Filed 11-14-01; 8:45 am]

BILLING CODE 4410-15-M